DEPARTMENT OF TRANSPORTATION

Federal Aviation Administration

Notice of Meeting of the National Parks Overflights Advisory Group

AGENCY: Federal Aviation Administration (FAA), DOT.

ACTION: Notice of meeting.

SUMMARY: The Federal Aviation Administration and the National Park Service announce a meeting of the National Parks Overflights Advisory Group for August 28-29, 2001. The Advisory Group was established on April 5, 2001, by the National Parks Air Tour Management Act of 2000, to provide continuing advice and counsel with respect to commercial air tour operations over and near national parks. This notice advises the public of an initial, administrative meeting of the advisory group.

DATES: The meeting will be held on August 28 and 29, 2001, at the Flamingo Hilton Hotel, 3555 Las Vegas Boulevard, Las Vegas, NV, 89109. Meeting times are 8:30 a.m. to 5:00 p.m.

FOR FURTHER INFORMATION CONTACT: If you wish to attend the meeting, or have questions on the meeting, contact Howard Nesbitt, Flight Standards Service, 800 Independence Avenue, SW., Washington, DC 20591, telephone (202) 493-4981; email: howard.nesbitt@faa.gov or Marvin Jensen, Soundscapes Office, National Park Service, 1201 Oak Ridge Drive, Suite 200, Ft. Collins, CO 80525, telephone (970) 225-3563, email:marin jensen@nps.gov.

SUPPLEMENTARY INFORMATION:

Background

The National Air Tour Management Act of 2000 was enacted on April 5, 2000, as Public Law 106-181. Section 805 of that Act requires the establishment of an advisory group to “provide continuing advice and counsel with respect to commercial air tour operations over and near national parks.” To fulfill this mandate, on March 12, 2001, in a Federal Register notice, the Federal Aviation Administration (FAA) and National Park Sservice (NPS) invited members of the public who were interested in serving on the advisory group to contact the agencies. Subsequently, the FAA and NPSs selected members from those nominated to serve on the advisory group. Those members were announced in the Federal Register on June 19, 2001: Andy Cebula, Aircraft Owners and Pilots Association; Joseph Corrao, Helicopter Association International; Charles Maynard, Friends of the Great Smoky Mountain National Park; Boyd Evison, former National Park Superintendent and Regional Director; and Germaine White, Confederated Salish and Kootani.

The purpose of this initial meeting of the advisory group is to establish administrative procedures: protocol, recordkeeping, and other process matters. Because the rulemaking to codify the Act is not yet complete and the air tour management plan process is not in place, the advisory group has no policy issues to consider.

Public Participation

This meeting of the advisory committee is open to the public, but is not a public meeting. That is, accommodation for additional attendees will be provided on an ‘as needed’ and space available basis. Therefore, it is very important that you contact one of the persons listed under FOR FURTHER INFORMATION CONTACT if you wish to attend the meeting. In addition, a record of the meeting will be kept, and this record will be available to the public through the persons listed under FOR FURTHER INFORMATION CONTACT.

Issued in Washington, DC on August 2, 2001.
Nicholas A. Sabatini,
Director, Flight Standards Service.

[FR Doc. 01-19862 Filed 8-10-01; 8:45 am]

BILLING CODE 4910-13-M>